ENVIRONMENTAL PROTECTION AGENCY

40 CFR Part 52

[EPA-R01-OAR-2018-0099; FRL-9978-26—Region 1]

Air Plan Approval; Connecticut; Volatile Organic Compound Emissions From Consumer Products and Architectural and Industrial Maintenance Coatings

AGENCY: Environmental Protection Agency (EPA).

ACTION: Proposed rule.

SUMMARY: The Environmental Protection Agency (EPA) is proposing to approve a State Implementation Plan (SIP) revision submitted by the State of Connecticut. The SIP revision amends requirements for controlling volatile organic compound (VOC) emissions from consumer products and architectural and industrial maintenance (AIM) coatings by revising Regulations of Connecticut State Agencies (RCSA) sections 22a-174-40, 22a-174-41, and adding section 22a-174-41a. The intended effect of this action is to propose approval of these regulations into the Connecticut SIP. This action is being taken in accordance with the Clean Air Act (CAA).

DATES: Written comments must be received on or before July 5, 2018.

ADDRESSES: Submit your comments, identified by Docket ID No. EPA-R01-OAR-2018-0099 at www.regulations.gov, or via email to mackintosh.david@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the For Further Information Contact section. For the full EPA public comment policy, information about CBI or multimedia submissions, and general guidance on making effective comments, please visit www.epa.gov/dockets/commenting-epa-dockets. Publicly available docket materials are available at www.regulations.gov or at the U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

FOR FURTHER INFORMATION CONTACT: David Mackintosh, Air Quality Planning Unit, U.S. Environmental Protection Agency, New England Regional Office, 5 Post Office Square—Suite 100, (Mail Code OEP05-02), Boston, MA 02109-3912, telephone 617-918-1584, email mackintosh.david@epa.gov.

SUPPLEMENTARY INFORMATION: Throughout this document whenever “we,” “us,” or “our” is used, we mean EPA.

Table of Contents

I. Background and Purpose

II. EPA's Evaluation of the Submittal

III. Proposed Action

IV. Incorporation by Reference

V. Statutory and Executive Order Reviews

I. Background and Purpose

In the summer of 2011, the Ozone Transport Commission (OTC) updated its Architectural and Industrial Maintenance Model Rule, and in the spring of 2013, OTC updated its Consumer Products Model Rule. Connecticut subsequently revised its regulations at RCSA section 22a-174-40, “Consumer Products,” and section 22a-174-41, “Architectural and Industrial Maintenance Products—Phase 1,” and added section 22a-174-41, “Architectural and Industrial Maintenance Products—Phase 2,” which all became effective in the State of Connecticut on October 5, 2017. Connecticut submitted these regulations to EPA in a SIP revision dated October 18, 2017.

EPA last approved Connecticut's RCSA section 22a-174-40, “Consumer Products,” into the Connecticut SIP on June 9, 2014 (79 FR 32873) and last approved RCSA section 22a-174-41, “Architectural and Industrial Maintenance Products,” into the Connecticut SIP on August 22, 2012 (77 FR 50595).

II. EPA's Evaluation of the Submittal

Connecticut revised section 22a-174-40, “Consumer Products,” is based on the 2013 OTC Model Rule for Consumer Products. Connecticut's rule contains limits for more categories of consumer products than EPA's National Volatile Organic Compound Emission Standards for Consumer Products rule at 40 CFR part 59 subpart C (63 FR 48831, September 11, 1998). The regulation limits are also equal to, or more stringent than, those found in EPA's consumer products rule.

The consumer products listed in Section 22a-174-40 include items sold to retail consumers for household or automotive use, as well as products used in commercial and institutional settings, such as beauty shops, schools and hospitals. The regulation has VOC content limits for over one hundred categories. In addition to the VOC emissions limits, the regulation includes: Limits on toxic contaminants in antiperspirants and deodorants and other consumer products; requirements for charcoal lighter materials, aerosol adhesives and floor wax strippers; requirements for products containing ozone-depleting compounds; product labeling requirements; and record keeping, reporting and testing requirements.

Connecticut revised RCSA section 22a-174-41, “Architectural and Industrial Maintenance Products” renaming the section “Architectural and Industrial Maintenance Products—Phase 1,” and changing its applicability to only regulate AIM coatings manufactured through April 30, 2018. For AIM coatings manufactured on and after May 1, 2018, Connecticut added a new section 22a-174-41a “Architectural and Industrial Maintenance Products—Phase 2,” which contains a number of new coating categories and reduced VOC content limits for some existing coating categories, consistent with the 2011 OTC AIM model rule. The limits in the Connecticut AIM rules remain as stringent as, or more stringent than, those contained in the EPA's AIM rule at 40 CFR part 59 Subpart D (63 FR 48848; September 11, 1998).

Connecticut's revised RCSA sections 22a-174-40, 22a-174-41, and new section 22a-174-41a include additional and more stringent VOC emission controls than the previous SIP-approved version of the consumer product and AIM rules. Thus, the SIP revision satisfies the requirements of Section 110(l) of the CAA because the revision will not interfere with any applicable requirement concerning attainment and reasonable further progress or any other applicable requirement of the CAA. Accordingly, we are proposing to approve Connecticut's revised regulations into the Connecticut SIP.

III. Proposed Action

EPA is proposing to approve and incorporate into the Connecticut SIP revised RCSA section 22a-174-40, “Consumer Products,” revised section 22a-174-41, “Architectural and Industrial Maintenance Products—Phase 1,” and new section 22a-174-41a “Architectural and Industrial Maintenance Products—Phase 2,” all of which became effective in the State of Connecticut on October 5, 2017.

EPA is soliciting public comments on the issues discussed in this notice or on other relevant matters. These comments will be considered before taking final action. Interested parties may participate in the Federal rulemaking procedure by submitting written comments to this proposed rule by following the instructions listed in the ADDRESSES section of this Federal Register.

IV. Incorporation by Reference

In this rule, the EPA is proposing to include in a final EPA rule regulatory text that includes incorporation by reference. In accordance with requirements of 1 CFR 51.5, the EPA is proposing to incorporate by reference Connecticut RCSA sections 22a-174-40, 22a-174-41, and 22a-174-41a. The EPA has made, and will continue to make, these documents generally available electronically through www.regulations.gov and in hard copy at the appropriate EPA office.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Reporting and recordkeeping requirements, Volatile organic compounds.

Dated: May 23, 2018.
Alexandra Dunn,
Regional Administrator, EPA Region 1.

[FR Doc. 2018-11596 Filed 6-1-18; 8:45 am]

BILLING CODE 6560-50-P